DEPARTMENT OF TRANSPORTATION

National Highway Traffic Safety Administration

[Docket No. NHTSA-2024-0026]

Grant of Petitions for Renewal of Temporary Exemptions From Shoulder Belt Requirement for Side-Facing Seats on Motorcoaches

AGENCY: National Highway Traffic Safety Administration (NHTSA), Department of Transportation (DOT).

ACTION: Notice of grant of petitions for renewal of temporary exemptions.

SUMMARY: In accordance with our regulations, NHTSA is granting 13 petitions for renewal of temporary exemptions from the requirement to install Type 2 seat belts (i.e., shoulder belts) at side-facing seats on motorcoaches. The 13 petitioners are final-stage manufacturers of entertainer-type motorcoaches, seeking temporary exemptions from the shoulder belt requirement of Federal Motor Vehicle Safety Standard (FMVSS) No. 208, “Occupant crash protection,” for side-facing seats. The granted exemptions permit the petitioners to continue to install Type 1 seat belts (lap belt only) at side-facing seating positions, instead of Type 2 seat belts (lap and shoulder belts) required by FMVSS No. 208. After reviewing the petitions and the comments received, the agency has determined that the requested exemption renewals are warranted to enable each petitioner to sell vehicles whose overall level of safety or impact protection is at least equal to that of a nonexempted vehicle.

DATES: The exemption applies to the petitioners' motorcoaches produced from June 1, 2024 until June 1, 2026.

FOR FURTHER INFORMATION CONTACT: Callie Roach, Office of the Chief Counsel, NCC-200, National Highway Traffic Safety Administration, 1200 New Jersey Avenue SE, Washington, DC 20590. Email: callie.roach@dot.gov Fax: 202-366-3820.

SUPPLEMENTARY INFORMATION:

I. Background

II. Authority and Procedures for Temporary Exemption

III. FMVSS No. 208

IV. Petitions From the 13 Manufacturers

V. Receipt Notice Seeking Comments

VI. Agency Analysis and Decision

I. Background

This notice grants 13 petitions submitted by All Access Coach Leasing LLC, Amadas Coach, Creative Mobile Interiors, D&S Classic Coach Inc., Farber Specialty Vehicles, Florida Coach, Inc., Geomarc, Inc., Integrity Interiors LLC, Encore Luxury Coach Leasing, Inc.,¹ Pioneer Coach Interiors LLC, Roberts Brothers Coach Company, Russell Coachworks LLC, and Ultra Coach Inc., requesting temporary exemptions from the shoulder belt requirement of FMVSS No. 208, “Occupant crash protection,” for side-facing seats on motorcoaches.

¹ Encore Luxury Coach Leasing, Inc. was formerly known as Nitetrain Coach Company, Inc. Both the original petition and renewal petition were submitted under the name “Nitetrain Coach Company, Inc.” Since submitting its petition, the company has changed its name and notified NHTSA. Accordingly, NHTSA's response to Nitetrain Coach Company Inc.'s petition is now directed to Encore Luxury Coach Leasing, Inc.

As background, NHTSA is responsible for promulgating and enforcing FMVSSs designed to improve motor vehicle safety. Generally, a manufacturer may not manufacture for sale, sell, offer for sale, or introduce or deliver for introduction into interstate commerce a vehicle that does not comply with all applicable FMVSS.² There are limited exceptions to this general prohibition.³ One path permits manufacturers to petition NHTSA for an exemption for noncompliant vehicles under a specified set of statutory bases.⁴ The details of these bases, and under which basis the 13 petitions are granted, are provided in the sections of this notice that follow.

² 49 U.S.C. 30112(a)(1).

³ 49 U.S.C. 30112(b); 49 U.S.C. 30113; 49 U.S.C. 30114.

⁴ 49 U.S.C. 30113.

II. Authority and Procedures for Temporary Exemption

The National Traffic and Motor Vehicle Safety Act (Safety Act), codified at 49 U.S.C. chapter 301, authorizes the Secretary of Transportation to exempt motor vehicles, on a temporary basis and under specified circumstances, and on terms the Secretary considers appropriate, from a FMVSS or bumper standard. This authority and circumstances are set forth at 49 U.S.C. 30113. The Secretary has delegated the authority for implementing this section to NHTSA.⁵

⁵ 49 CFR 1.95.

The Safety Act authorizes the Secretary to grant, in whole or in part, a temporary exemption to a vehicle manufacturer if the Secretary makes one of four specified findings.⁶ The Secretary must also look comprehensively at the request for exemption and find that the exemption is consistent with the public interest and with the objectives of the Safety Act.⁷

⁶ 49 U.S.C. 30113(b)(3).

⁷ 49 U.S.C. 30113(b)(3)(A).

The Secretary must evaluate the petition for exemption under at least one of the following bases:

(ii) Compliance would cause substantial economic hardship, and the manufacturer tried to comply in good faith;

(ii) the exemption would make easier the development or field evaluation of a new motor vehicle safety feature, and the safety level is equal to the safety level of the standard;

(iii) the exemption would make the development or field evaluation of a low-emission motor vehicle easier, and the safety level of the vehicle is not unreasonably lowered; or

(iv) compliance would prevent the manufacturer from selling a motor vehicle with an overall safety level at least equal to the overall safety level of nonexempt vehicles.⁸

⁸ 49 U.S.C. 30113(b)(3)(B).

NHTSA established 49 CFR part 555, Temporary Exemption from Motor Vehicle Safety and Bumper Standards, to implement the statutory provisions concerning temporary exemptions, including renewals of temporary exemptions. Under Part 555 subpart A, a vehicle manufacturer seeking an exemption or renewal of an exemption must submit a petition for exemption containing specified information. The requirements in 49 CFR 555.5 state that the petitioner must set forth the basis of the petition by providing the information required under 49 CFR 555.6, and the reasons why the exemption would be in the public interest and consistent with the objectives of the Safety Act. A petition submitted on the basis that the applicant is otherwise unable to sell a vehicle whose overall level of safety or impact protection is at least equal to that of a nonexempt vehicle must include the information specified in 49 CFR 555.6(d). A manufacturer is eligible for an exemption under this basis only if NHTSA determines the exemption is for not more than 2,500 vehicles to be sold in the U.S. in any 12-month period. An exemption under this basis may be granted for not more than two years, but may be renewed upon reapplication.⁹

⁹ 555.8(b) and 555.8(e).

Under 49 CFR 555.8(e), “[i]f an application for renewal of temporary exemption that meets the requirements of § 555.5 has been filed not later than 60 days before the termination date of an exemption, the exemption does not terminate until the Administrator grants or denies the application for renewal.” NHTSA notes that the 13 petitions for renewal were submitted by the deadline stated in 49 CFR 555.8(e).

III. FMVSS No. 208

On November 25, 2013, NHTSA published a final rule amending FMVSS No. 208 to require seat belts for each passenger seating position in all new over-the-road buses (OTRBs) (regardless of gross vehicle weight rating (GVWR)), and all other buses with GVWRs greater than 11,793 kilograms (kg) (26,000 pounds (lb)) (with certain exclusions).¹⁰

¹⁰ 78 FR 70415 (November 25, 2013); response to petitions for reconsideration, 81 FR 19902 (April 6, 2016). The final rule became effective November 28, 2016 for buses manufactured in a single stage, and a year later for buses manufactured in more than one stage.

In the notice of proposed rulemaking (NPRM) preceding the final rule, NHTSA proposed to permit manufacturers the option of installing either a Type 1 (lap belt) or a Type 2 (lap and shoulder belt) on side-facing seats.¹¹ The proposed option was consistent with a provision in FMVSS No. 208 that allows lap belts for side-facing seats on buses with a GVWR of 4,536 kg (10,000 lb) or less. NHTSA proposed the option because the agency was unaware of any demonstrable increase in associated risk of lap belts compared to lap and shoulder belts on side-facing seats. In the NPRM, NHTSA noted that “a study commissioned by the European Commission regarding side-facing seats on minibuses and motorcoaches found that due to different seat belt designs, crash modes and a lack of real-world data, it cannot be determined whether a lap belt or a lap/shoulder belt would be the most effective.” ¹²

¹¹ 75 FR at 50971 (August 18, 2010).

¹² http://ec.europa.eu/enterprise/automotive/projects/safety_consid_long_stg.pdf, citied in the NPRM at 75 FR at 50971-50972.

However, after the NPRM was published, the Motorcoach Enhanced Safety Act of 2012 was enacted as part of the Moving Ahead for Progress in the 21st Century Act ((MAP-21), Public Law 112-141 (July 6, 2012)). Section 32703(a) of MAP-21 directed the Secretary of Transportation (authority delegated to NHTSA) to “prescribe regulations requiring safety belts to be installed in motorcoaches at each designated seating position.” ¹³ As MAP-21 defined “safety belt” to mean an integrated lap and shoulder belt, the final rule amended FMVSS No. 208 to require lap and shoulder belts at all designated seating positions, including side-facing seats, on OTRBs.¹⁴

¹³ MAP-21 states at § 32702(6) that “the term `motorcoach' has the meaning given the term `over-the-road bus' in section 3038(a)(3) of the Transportation Equity Act for the 21st Century (49 U.S.C. 5310 note), but does not include a bus used in public transportation provided by, or on behalf of, a public transportation agency; or a school bus, including a multifunction school activity bus.” Section 3038(a)(3) (49 U.S.C. 5310 note) states: “The term `over-the-road bus' means a bus characterized by an elevated passenger deck located over a baggage compartment.”

¹⁴ For side-facing seats on buses other than OTRBs, in the final rule NHTSA permitted either lap or lap/shoulder belts at the manufacturer's option.

Even as it did so, however, the agency reiterated its view that “the addition of a shoulder belt at [side-facing seats on light vehicles] is of limited value, given the paucity of data related to side facing seats.” ¹⁵ The agency also noted that Australian Design Rule ADR 5/04, “Anchorages for Seatbelts” specifically prohibits shoulder belts for side-facing seats.¹⁶ Given that background, and believing that few OTRBs would have side-facing seats, NHTSA stated in the November 2013 final rule that manufacturers may petition NHTSA for a temporary exemption under 49 CFR part 555 to install lap belts instead of lap and shoulder belts at side-facing seats.¹⁷ NHTSA stated that the basis for any petition for exemption from this requirement would be that the applicant is unable to sell a bus whose overall level of safety is at least equal to that of a non-exempted vehicle and that NHTSA would be receptive to the argument that lap belts provide an equivalent level of safety to lap/shoulder belt combinations for side-facing seats.¹⁸

¹⁵ 78 FR at 70448, quoting from the agency's Anton's Law final rule which required lap/shoulder belts in forward-facing rear seating positions of light vehicles, 59 FR 70907.

¹⁶ 78 FR 70416, 70448

¹⁷ Id.

¹⁸ Id.

Since issuing the November 2013 final rule, NHTSA has granted temporary exemptions to sixteen final stage manufacturers of entertainer buses for the same shoulder belt requirement of FMVSS No. 208 for side-facing seats on entertainer buses.¹⁹

¹⁹ The 16 final stage manufacturers of entertainer buses to which NHTSA has granted temporary exemptions for the same shoulder belt requirement of FMVSS No. 208 for side-facing seats on entertainer buses include the 13 manufacturers discussed in this notice. The first petition was submitted by Hemphill Brothers Leasing Company, LLC (Hemphill). (Notice of receipt of petition, 84 FR 11735 (Mar. 28, 2019); notice of grant of petition, 84 FR 69966 (Nov. 14, 2019)). In its original petition, Hemphill stated that 39 “other petitioners” were covered by it. Later, NHTSA granted the 13 petitions submitted by All Access Coach Leasing LLC, Amadas Coach, Creative Mobile Interiors, D&S Classic Coach Inc., Farber Specialty Vehicles, Florida Coach, Inc., Geomarc, Inc., Integrity Interiors LLC, Nitetrain Coach Company, Inc. (now known as Encore Luxury Coach Leasing, Inc.,), Pioneer Coach Interiors LLC, Roberts Brothers Coach Company, Russell Coachworks LLC, and Ultra Coach Inc. (Notice of receipt of the petitions, 85 FR 51550 (Aug. 20, 2022); notice of grant of petitions, 87 FR 33299 (June 1, 2022)). Most recently, NHTSA granted an exemption to Beat the Street Interiors, Inc. (BTS) (Notice of receipt of petition, 88 FR 25445 (Apr. 26, 2024); notice of grant of petition, 88 FR 78093 (Nov. 14, 2023)) and Legacy Limousines and Luxury Coaches (Notice of receipt, 89 FR 87722 (Nov. 4, 2024), notice of grant of petition, 90 FR 7234 (Jan. 1, 2025)).

In a recent decision notice granting one of these exemptions, NHTSA's rationale for granting the exemption cited the uncertainties about shoulder belts on side-facing seats, the relatively small number of side-facing seats on buses subject to the November 2013 final rule, and that FMVSS No. 208 does not require shoulder belts on side-facing seats on any other vehicle type.²⁰ NHTSA stated that it believes the potential safety risk at issue is theoretical, as explained in the November 2013 final rule, and the agency cannot affirmatively conclude, based on available information, that shoulder belts on side-facing seats are associated with a demonstrated risk of serious neck injuries in front crashes. NHTSA also stated that it believes a shoulder belt is of limited value on side-facing seats for the reasons explained in the final rule and further explained that it believed granting the exemption was consistent with the public interest and the Safety Act.

²⁰ 88 FR 25445.

IV. Receipt of Petitions

In accordance with 49 U.S.C. 30113 and the procedures in 49 CFR part 555, 13 final-stage manufacturers of entertainer motorcoaches submitted individual, mostly identical petitions asking NHTSA for renewals of their temporary exemptions from the shoulder belt requirement of FMVSS No. 208 for side-facing seats on their vehicles. The petitioners sought renewal of their exemptions to allow them to continue installing Type 1 seat belts (lap belt only) at side-facing seating positions, instead of Type 2 seat belts (lap and shoulder belts) as required by FMVSS No. 208. NHTSA granted the 13 exemptions in a Federal Register notice published on June 1, 2022 (87 FR 33299) and the exemptions expired on June 1, 2024. The basis for each of the renewal petitions, like their original petitions, is that compliance would prevent the petitioner from selling a motor vehicle with an overall safety level at least equal to the overall safety level of nonexempted vehicles (49 CFR 555.6(d)).

The petitioners are listed alphabetically as follows: All Access Coach Leasing LLC; Amadas Coach; Creative Mobile Interiors; D&S Classic Coach Inc.; Encore Luxury Coach Leasing, Inc. (formerly known as Nitetrain Coach Company, Inc); Farber Specialty Vehicles; Florida Coach, Inc.; Geomarc, Inc.; Integrity Interiors LLC; Pioneer Coach Interiors LLC; Roberts Brothers Coach Company; Russell Coachworks LLC; and Ultra Coach Inc.

Each petitioner states that it is a final-stage manufacturer of entertainer-type motorcoaches and is responsible for ensuring the completed vehicle meets the FMVSS. Each petitioner also states that it typically receives a bus shell ²¹ and customizes it to meet the needs of its entertainer clients and other specialized customers. Each petitioner states that it “builds out the complete interior” of the bus shell, including: roof escape hatch; fire suppression systems (interior living space, rear tires, electrical panels, bay storage compartments, and generator); ceiling, side walls and flooring; seating; electrical system, generator, invertor and house batteries; interior lighting; interior entertainment equipment; heating, ventilation and cooling system; galley with potable water, cooking equipment, refrigerators, and storage cabinets; bathroom and showers; and sleeping positions.

²¹ Each petition describes the bus shell as generally containing the following components: exterior frame; driver's seat; dash cluster, speedometer, emissions light and emissions diagnosis connector; exterior lighting, headlights, marker lights, turn signals lights, and brake lights; exterior glass, windshield and side lights with emergency exits; windshield wiper system; braking system; tires, tire pressure monitoring system and suspension; and engine and transmission.

Pursuant to 49 CFR 555.6(d), an application must provide “[a] detailed analysis of how the vehicle provides the overall level of safety or impact protection at least equal to that of nonexempted vehicles.”

Each petitioner reiterates, as part of their justification that the vehicles provide an overall level of safety equivalent to that of a nonexempted vehicle, statements made in NHTSA's 2013 final rule as well as excerpts from the agency's discussion in the June 2022 Federal Register notice granting temporary exemptions to the 13 petitioners. Specifically, each petitioner cites NHTSA's statement that it “believes a shoulder belt is of limited value on side-facing seats for the reasons explained in the [November 2013] final rule”. Each petitioner also cites NHTSA's conclusion that “[g]iven the uncertainties about shoulder belts on side-facing seats, the few side-facing seats there are on buses subject to the November 2013 final rule, and that FMVSS No. 208 does not require shoulder belts on side-facing seats on any other vehicle type, NHTSA is granting the petitions for temporary exemption.” Each petitioner states that the considerations and conclusions from the 2022 grant are still pertinent. Additional details are provided in the petitions, which may be located in the docket identified at the top of this document.

Pursuant to 49 CFR 555.5(b)(7), petitioners must state why granting an exemption allowing it to install Type 1 instead of Type 2 seat belts in side-facing seats would be in the public interest and consistent with the objectives of the Safety Act. Each petitioner states that granting an exemption would allow the petitioner the option to continue providing seat belts at side-facing seating positions that are equivalent to or exceed the safety performance of Type 2 belts under the requirements in FMVSS No. 208 (S4.4.5.1.2(c)). Each petitioner also cites NHTSA's statements from the 2022 grant notice in which NHTSA stated that it believes that granting the petitioners' exemption requests is consistent with the public interest and that granting the exemptions would provide relief to small businesses by providing “an objective standard that is easy for manufacturers to understand and meet.”

In support of the petitions, each petitioner also states that only a small number of entertainer-type motorcoaches with side-facing seats are manufactured in the U.S. market each year and that number of vehicles they would produce within any 12-month period would be well below the 2,500 limit in part 555.

Each petitioner also indicates that it expects to seek to renew this exemption, if granted, at the end of the exemption period. In support of this intention, each petitioner notes the agency's apparent lack of research, testing, or analysis to justify the use of Type 2 belts on side-facing seats in over-the-road-buses.

V. Notice of Receipt and Comments Received

On July 2, 2024, NHTSA published a notice announcing receipt of the 13 petitions and requesting public comment.²² NHTSA received six comments, one from the American Bus Association and five from petitioners: Florida Coach, Inc.; Pioneer Coach Interiors LLC; Roberts Brothers Coach; Senators Coaches, Inc. (whose affiliate Geomarc, Inc. is one of the petitioners); and Encore Luxury Coach Leasing, Inc. (the petitioner formerly known as Nitetrain Coach Company, Inc.). Each of the six comments supported granting the petitions.

²² 89 FR 54958.

VII. Agency Analysis and Decision

After reviewing the petitions and the comments received, NHTSA is granting the 13 renewal petitions. Granting the petitions will enable each of the petitioners to sell a vehicle whose overall level of safety or impact protection is at least equal to that of a nonexempted vehicle.

In the rulemaking implementing MAP-21's mandate for seat belts on motorcoaches, NHTSA's proposal in the NPRM was to allow manufacturers an option of installing Type 1 (lap belt) or Type 2 (lap and shoulder belt) on side-facing seats. The proposal was consistent with a provision in FMVSS No. 208 that allows lap belts for side-facing seats on buses with a GVWR of 4,536 kg (10,000 lb) or less. NHTSA proposed the option because the agency was unaware of any demonstrable increase in associated risk of lap belts compared to lap and shoulder belts on side-facing seats.²³ As noted in the summary above, NHTSA finalized the requirement for Type 2 seat belts in side-facing positions because of a congressional mandate to do so. In that final rule, NHTSA finalized the requirement for Type 2 seat belts in side-facing positions, while also noting that the agency would be receptive to a petition for a temporary exemption that argues that lap belts provide an equivalent level of safety to lap/shoulder belt combinations for side-facing seats.

²³ 75 FR 50958 at pages 50971-72 (August 18, 2010).

The petitioners do not provide information supporting their beliefs about the potential that Type 2 seat belts in side-facing seats can cause injuries beyond reciting what NHTSA said on the matter in the 2013 final rule. Accordingly, NHTSA believes that the potential safety risk at issue is theoretical at this point; as explained in the November 2013 final rule,²⁴ the agency cannot affirmatively conclude, based on available information, that shoulder belts on side-facing seats are associated with a demonstrated risk of serious neck injuries in frontal crashes. However, at the same time, NHTSA believes a shoulder belt is of limited value on side-facing seats for the reasons explained in the final rule. Given the uncertainties about shoulder belts on side-facing seats, the few side-facing seats there are on buses subject to the November 2013 final rule, and that FMVSS No. 208 does not require shoulder belts on side-facing seats on any other vehicle type, NHTSA is granting the petitions to renew the temporary exemptions.

²⁴ 78 FR 7041 at pages 70447-48

The grants will permit the petitioners to continue to install Type 1 seat belts (lap belt only) at side-facing seating positions, instead of Type 2 seat belts (lap and shoulder belts) at those positions, on the entertainer-type motorcoaches it manufactures. The exemptions do not apply to forward-facing designated seating positions on the petitioners' vehicles. Under FMVSS No. 208, the forward-facing seating positions must have Type 2 seat belts.

NHTSA believes that granting the petitioners' exemption renewal requests is consistent with the public interest. The exemption will enable the applicants to sell buses whose overall level of safety is at least equal to that of non-exempted vehicles. Much of the petitioners' analysis for why granting its petition is in the public interest relies on NHTSA's own analysis in the rulemaking mandating Type 2 seat belts in side-facing seats. Chief among that analysis is the fact that NHTSA stated that it did not have enough data available at the time to demonstrate that the Type 2 seat belt for side-facing seats was more than of limited value. This may change with future research, but since it has not yet, NHTSA agrees that granting this petition is in the public interest.

Granting these petitions is also consistent with the Safety Act. The requested exemptions will not impact general motor vehicle safety because the exempted buses will provide overall safety at least equal to that of nonexempted buses. Further, the petitioners produce a small number of affected vehicles annually. The petitioners did not specify exactly how many buses they would manufacture under the exemption, but several commenters, including the American Bus Association (ABA), have noted that fewer than 100 entertainer-type motorcoaches with side-facing seats are manufactured annually. Thus, NHTSA concludes that the petitioners will annually manufacture very few vehicles relative to the 2,500 per manufacturer limit set forth in the Safety Act. Further, as explained below, in accordance with 49 CFR 555.9 and § 30113(h) of the Safety Act, prospective purchasers will also be notified of the exemption prior to making their purchasing decisions. The vehicles must have a label notifying prospective purchasers that the vehicles are exempted from the shoulder belt requirement of FMVSS No. 208 for side-facing seats. NHTSA believes that this combination of factors reinforce that this grant notice is consistent with the Safety Act.

VIII. Labeling

Under 49 CFR 555.9(b), a manufacturer of an exempted vehicle must securely affix to the windshield or side window of each exempted vehicle a label containing a statement that the vehicle meets all applicable FMVSSs in effect on the date of manufacture “except for Standard Nos. [Listing the standards by number and title for which an exemption has been granted] exempted pursuant to NHTSA Exemption No. __.” This label notifies prospective purchasers about the exemption and its subject. Under § 555.9(c)(2), this information must also be included on the vehicle's certification label.²⁵

²⁵ 49 CFR 555.9(c)(2) refers to § 567.5(c)(7)(iii) as the regulation setting forth the certification statement final-stage manufacturers are to use in their certification labels. That reference to § 567.5(c)(7)(iii) is outdated; it should be to § 567.5(d)(2)(v)(A). The certification label requirements for final-stage manufacturers formerly were in § 567(c)(7)(iii) but the requirements were moved to § 567.5(d)(2)(v)(A) (see 70 FR 7433 (Feb. 14, 2005)).

The text of § 555.9 does not expressly indicate how the required statement on the two labels should read in situations in which an exemption covers part, but not all, of an FMVSS. In this case, NHTSA believes that a blanket statement that the vehicle has been exempted from Standard No. 208, without an indication that the exemption is limited to the shoulder belt on side-facing seats, could be confusing. A purchaser might incorrectly believe that the vehicle has been exempted from all FMVSS No. 208 requirements. For this reason, NHTSA believes the two labels should read in relevant part, “except for the shoulder belt requirement for side-facing seats (Standard No. 208, Occupant Crash Protection), exempted pursuant to NHTSA Exemption No.§ __.”

IX. Grant of Petitions

In accordance with 49 U.S.C. 30113(b)(3)(B)(iv), the applicants are granted two-year renewals of their NHTSA Temporary Exemptions, as follows: EX 21-01 (All Access Coach Leasing LLC), 21-02 (Amadas Coach), 21-03 (Creative Mobile Interiors), 21-04 (D&S Classic Coach Inc.), 21-05 (Farber Specialty Vehicles), 21-06 (Florida Coach, Inc.), 21-07 (Geomarc, Inc.), 21-08 (Integrity Interiors LLC), 21-09 (Encore Luxury Coach Leasing, Inc., formerly known as Nitetrain Coach Company, Inc.), 21-10 (Pioneer Coach Interiors LLC), 21-11 (Roberts Brothers Coach Company), 21-12 (Russell Coachworks LLC), and 21-13 (Ultra Coach Inc.), from the shoulder belt requirement of 49 CFR 571.208 for side-facing seats on its motorcoaches. The exemptions shall remain effective until June 1, 2026.

Authority: 49 U.S.C. 30113; delegation of authority at 49 CFR 1.95 and 501.5.

Peter Simshauser,
Chief Counsel.

[FR Doc. 2025-13571 Filed 7-17-25; 8:45 am]

BILLING CODE 4910-59-P